DEPARTMENT OF COMMERCE

International Trade Administration

[A-823-810]

Solid Agricultural Grade Ammonium Nitrate from Ukraine: Postponement of Final Determination and Extension of Provisional Measures of Antidumping Duty Investigation

AGENCY: Import Administration, International Trade Administration, Department of Commerce.

ACTION: Notice of postponement of final antidumping duty determination and extension of provisional measures: solid agricultural grade ammonium nitrate from Ukraine.

EFFECTIVE DATE: May 22, 2001.

FOR FURTHER INFORMATION CONTACT: Jarrod Goldfeder at (202) 482-0189, AD/CVD Enforcement, Office 1, DAS Group I, Import Administration, International Trade Administration, U.S. Department of Commerce, 14th Street and Constitution Avenue NW, Washington, DC 20230.

Postponement of Final Determination

The Department of Commerce (the Department) is postponing the final determination in the antidumping duty investigation of solid agricultural grade ammonium nitrate from Ukraine.

On March 5, 2001, the Department published its preliminary determination in this investigation. See Notice of Preliminary Determination of Sales at Less Than Fair Value: Solid Agricultural Grade Ammonium Nitrate from Ukraine, 66 FR 13286 (“Preliminary Notice”). The Preliminary Notice stated that, based on a proper request by Stock Holding Company Concern “Stirol” (“Stirol”), the Department was postponing the final determination by 30 days and, therefore, would issue its final determination no later than 105 days after the date of issuance of the notice (see Preliminary Notice, 66 FR at 13287).

Pursuant to section 735(a)(2)(A) of the Tariff Act of 1930, as amended (the Act), on May 14, 2001, Stirol, the sole participating respondent in the investigation, requested that the Department postpone its final determination by an additional 30 days. Stirol further requested that the Department extend to not more than six months the application of the provisional measures prescribed under paragraphs (1) and (2) of section 733(d) of the Act. In accordance with section 735(a) of the Act and 19 CFR 351.210(b), because (1) the preliminary determination in this case is affirmative, (2) the request for postponement was submitted in writing by an exporter who accounts for a significant proportion of exports of the subject merchandise in this investigation, and (3) no compelling reason for denial exists, we are postponing the final determination until no later than 135 days after the publication of the preliminary determination in the Federal Register (i.e., until no later than July 18, 2001). Suspension of liquidation will be extended accordingly.

This extension is in accordance with section 735(a)(2)(A) of the Act and 19 CFR 351.210(b)(2).

Dated: May 17, 2001.
Laurie Parkhill,
Acting Deputy Assistant Secretary for Import Administration, Group I.

[FR Doc. 01-12860 Filed 5-21-01; 8:45 am]

BILLING CODE 3510-DS-P